DEPARTMENT OF THE INTERIOR

National Park Service

[NPS-WASO-NAGPRA-17027; PPWOCRADN0-PCU00RP14.R50000]

Notice of Inventory Completion: Illinois State Museum, Springfield, IL

AGENCY: National Park Service, Interior.

ACTION: Notice.

SUMMARY: The Illinois State Museum has completed an inventory of human remains, in consultation with the appropriate Indian tribes or Native Hawaiian organizations, and has determined that there is no compelling evidence of cultural affiliation between the human remains and any present-day Indian tribes or Native Hawaiian organizations. Representatives of any Indian tribe or Native Hawaiian organization not identified in this notice that wish to request transfer of control of these human remains should submit a written request to the Illinois State Museum. If no additional requestors come forward, transfer of control of the human remains to the Indian tribes or Native Hawaiian organizations stated in this notice may proceed.

DATES: Representatives of any Indian tribe or Native Hawaiian organization not identified in this notice that wish to request transfer of control of these human remains should submit a written request with information in support of the request to the Illinois State Museum at the address in this notice by December 17, 2014.

ADDRESSES: Dr. Robert E. Warren, Illinois State Museum, 1011 East Ash Street, Springfield, IL 62703, telephone (217) 524-7903, email warren@museum.state.il.us.

SUPPLEMENTARY INFORMATION: Notice is here given in accordance with the Native American Graves Protection and Repatriation Act (NAGPRA), 25 U.S.C. 3003, of the completion of an inventory of human remains under the control of the Illinois State Museum, Springfield, IL. The human remains were removed from the Wickliffe Mounds site in Ballard County, KY.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Illinois State Museum professional staff in consultation with representatives of the Eastern Band of Cherokee Indians and The Chickasaw Nation.

History and Description of the Remains

On an unknown date, human remains representing, at minimum, two individuals were removed by unknown parties from unknown locations at the Wickliffe Mounds site (15BA4) in Ballard County, KY. In 1956, the University of Chicago transferred the human remains to the Illinois State Museum (ISM 1956-8) along with collections of animal bone, freshwater mussel shell, and ceramic and lithic artifacts from the same site. The human remains include cranial and postcranial elements of one young adult (ISM NAGPRA 722) and postcranial elements of one infant (ISM NAGPRA 5547). No known individuals were identified. No associated funerary objects are present.

Determinations Made by the Illinois State Museum

Officials of the Illinois State Museum have determined that:

• Pursuant to 25 U.S.C. 3001(9), the human remains described in this notice are Native American based on their presumed association with prehistoric Native American occupations at the Wickliffe Mounds site.

• Pursuant to 25 U.S.C. 3001(9), the human remains described in this notice represent the physical remains of two individuals of Native American ancestry.

• Pursuant to 25 U.S.C. 3001(2), a relationship of shared group identity cannot be reasonably traced between the Native American human remains and any present-day Indian tribe due, in part, to the lack of specific information regarding the original provenience and removal of materials from the Wickliffe Mounds site.

• The 1818 Treaty of Old Town, Mississippi, indicates that the land from which the Native American human remains were removed is the aboriginal land of The Chickasaw Nation. The Eastern Band of Cherokee Indians also has aboriginal land in western Kentucky, but not in Ballard County.

• Pursuant to 43 CFR 10.11(c)(1), the disposition of the human remains may be to The Chickasaw Nation.

Additional Requestors and Disposition

Representatives of any Indian tribe or Native Hawaiian organization not identified in this notice that wish to request transfer of control of these human remains should submit a written request with information in support of the request to Dr. Robert E. Warren, Illinois State Museum, 1011 East Ash Street, Springfield, IL 62703, telephone (217) 524-7903, email warren@museum.state.il.us, by December 17, 2014. After that date, if no additional requestors have come forward, transfer of control of the human remains to The Chickasaw Nation may proceed.

The Illinois State Museum is responsible for notifying The Chickasaw Nation that this notice has been published.

Dated: October 23, 2014.
Melanie O'Brien,
Acting Manager, National NAGPRA Program.

[FR Doc. 2014-27140 Filed 11-14-14; 8:45 am]

BILLING CODE 4312-50-P